Proclamation 10922 of April 23, 2025

Days of Remembrance of Victims of the Holocaust, 2025

By the President of the United States of America

A Proclamation

On Yom HaShoah, Holocaust Remembrance Day, and during this week of solemn remembrance, we honor the blessed memories of the six million Jewish men, women, and children who were viciously slaughtered by the genocidal Nazi regime and their collaborators—one of the bleakest hours in human history. We also remember the Roma and Sinti, peoples of Slavic and Polish ancestry, persons with disabilities, Soviet prisoners of war, Jehovah's Witnesses, persons targeted based on their sexual orientation, and countless other innocent victims of this tragedy.

Earlier this year, our Nation solemnly commemorated the 80th anniversary of the liberation of Auschwitz, during which we memorialized the lives of the mothers, fathers, sisters, brothers, daughters, sons, grandmothers, and grandfathers whose futures were barbarically ripped away in Nazi-occupied Europe. During these Days of Remembrance of Victims of the Holocaust, we once again honor every Holocaust survivor who has imparted their wisdom to younger generations. Today and every day, we commit to preserving their stories.

The price to humanity of the lives lost during the Shoah can never be fully grasped or understood. Yet, even in the wake of the Holocaust, a self-determined Jewish homeland rose from the ashes as the modern State of Israel.

Sadly, our Nation has borne witness to the worst outbreak of anti-Semitism on American soil in generations. Nearly every day following the deadly October 7, 2023, attack on Israel, Jewish Americans were threatened on our streets and in our public square—a reminder that the poison of anti-Semitism tragically still exists.

For that reason, my Administration is proudly upholding the basic truth that anti-Semitism has no place in a civilized society. As President, I signed an Executive Order directing the Federal Government to use all available and appropriate legal tools to combat the explosion of anti-Semitic harassment in our schools and on college campuses—including through the removal of resident aliens who violate our laws. We are also steadfastly committed to investigating and swiftly punishing all anti-Semitic discrimination in leftist, anti-American colleges and universities.

During these Days of Remembrance of Victims of the Holocaust, we reflect upon the dark affront to human dignity posed by Nazis. We cherish the eternal memories of all those whose lives were lost to the deadly scourge of anti-Semitism. Above all, we vow to never forget the atrocities of the Holocaust. We declare that never again means now.

NOW, THEREFORE, I, DONALD J. TRUMP, President of the United States of America, do hereby ask the people of the United States to observe the Days of Remembrance of Victims of the Holocaust from April 20 through April 27, 2025, and the solemn anniversary of the liberation of Nazi death camps with appropriate study, prayers, and commemoration and to honor the memory of the victims of the Holocaust and Nazi persecution by remembering the lessons of this atrocity so that it is never repeated.

IN WITNESS WHEREOF, I have hereunto set my hand this twenty-third day of April, in the year of our Lord two thousand twenty-five, and of the Independence of the United States of America the two hundred and forty-ninth.

[FR Doc. 2025-07366

Filed 4-25-25; 8:45 am]

Billing code 3395-F4-P